ENVIRONMENTAL PROTECTION AGENCY

[ER-FRL-9055-9]

Environmental Impact Statements; Notice of Availability

Responsible Agency: Office of Federal Activities, General Information 202-564-5632 or https://www.epa.gov/nepa.

Weekly receipt of Environmental Impact Statements (EIS)

Filed March 22, 2021 10 a.m. EST Through March 29, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210038, Draft, WAPA, WY, Rail Tie Wind Project, Comment Period Ends: 05/17/2021, Contact: Mark Wieringa 720-962-7448.

Dated: March 29, 2021.
Cindy S. Barger,
Director, NEPA Compliance Division, Office of Federal Activities.

[FR Doc. 2021-06822 Filed 4-1-21; 8:45 am]

BILLING CODE 6560-50-P